ENVIRONMENTAL PROTECTION AGENCY

[FRL-9947-82-Region 1]

Proposed Administrative Settlement Agreement and Covenant Not To Sue Pursuant to the Comprehensive Environmental Response, Compensation, and Liability Act of 1980, as Amended by the Superfund Amendments and Reauthorization Act of 1986; In Re: Ely Copper Mine Superfund Site, Located in Vershire, Vermont

AGENCY: U.S. Environmental Protection Agency (EPA).

ACTION: Notice of proposed settlement agreement; request for public comment.

SUMMARY: The EPA is hereby providing notice of a proposed settlement agreement concerning the Ely Copper Mine Superfund Site in Vershire, Vermont. The settlement agreement is entered into pursuant to the Comprehensive Environmental Response, Compensation, and Liability Act, as amended (“CERCLA”), 42 U.S.C. 9601 et seq., and the authority of the Attorney General of the United States to compromise and settle claims of the United States. The proposed settlement agreement is with the following parties: Green Crow Corporation (“Green Crow”) and Dwight Hill Forest, LLC (“Dwight Hill”) (together the “settling parties”). Under the proposed settlement, Green Crow, a company specializing in the timberland and wood products industries, will effectuate transfer of the main site property to Dwight Hill, but remain involved in the timber harvesting and management of the property. Green Crow will also be responsible for seven years of monitoring and thirty years of maintenance of the remedy at the site. In addition, the proposed settlement requires the settling parties to: Allow EPA to remove and use borrow material located on the site property and on an adjacent property owned by Green Crow, provide EPA and its contractors access to the site property and Green Crow's adjacent property, and prepare and record any documents necessary to implement institutional controls. The proposed settlement includes a covenant not to sue the settling parties pursuant to Sections 106 and 107(a) of CERCLA, 42 U.S.C. 9606 and 9607(a).

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the US EPA Region 1 OSRR Records and Information Center, 5 Post Office Square, Suite 100, Boston, MA 02109.

DATES: Comments must be submitted on or before July 18, 2016.

ADDRESSES: Comments should be addressed to the Regional Hearing Clerk, U.S. Environmental Protection Agency, Region I, 5 Post Office Square, Suite 100, Mailcode ORA18-1, Boston, MA 02109 and should refer to: In re: Green Crow Corporation, U.S. EPA Region 1 Docket No. CERCLA-01-2016-0001.

FOR FURTHER INFORMATION CONTACT: The proposed settlement and additional background information relating to the settlement are available for public inspection at the Vershire Town Hall, 6894 VT Rt. 113, Vershire, VT or at the US EPA Region 1 OSRR Records and Information Center, 5 Post Office Square, Suite 100, Boston, MA 02109. In addition, a copy of the proposed settlement agreement can be obtained from Ann Gardner, U.S. Environmental Protection Agency, Region I, 5 Post Office Square, Suite 100, Mailcode OES04-4, Boston, MA 02109-3912, or by email at gardner.ann@epa.gov. Additional information on the Ely Copper Mine Superfund Site can be found through the U.S. EPA Region I Web site at http://www.epa.gov/region1/cleanup/index.html.

Dated: June 2, 2016.
Bryan Olson,
Director, Office of Site Remediation and Restoration, U.S. EPA, Region 1.

[FR Doc. 2016-14296 Filed 6-15-16; 8:45 am]

BILLING CODE 6560-50-P